INTERNATIONAL TRADE COMMISSION

[Investigation No. 337-TA-1414]

Certain Semiconductor Devices and Products Containing the Same; Notice of a Commission Determination Not To Review an Initial Determination Granting an Unopposed Motion To Amend the Complaint and Notice of Investigation

AGENCY: U.S. International Trade Commission.

ACTION: Notice.

SUMMARY: Notice is hereby given that the U.S. International Trade Commission (“Commission”) has determined not to review an initial determination (“ID”) (Order No. 7) of the presiding administrative law judge (“ALJ”), granting an unopposed motion to amend the complaint and notice of investigation to correct the corporate title of Respondent Innoscience (Suzhou) Technology Co., Ltd. to Innoscience (Suzhou) Technology Holding Co., Ltd.

FOR FURTHER INFORMATION CONTACT: Joelle Justus, Esq., Office of the General Counsel, U.S. International Trade Commission, 500 E Street SW, Washington, DC 20436, telephone (202) 205-2593. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on August 30, 2024, based on a complaint filed by Infineon Technologies Americas Corp. and Infineon Technologies Austria AG (collectively, “Complainants”). 89 FR 70667-68 (Aug. 30, 2024). The complaint, as supplemented, alleges violations of section 337 of the Tariff Act of 1930, as amended, 19 U.S.C. 1337, in the importation into the United States, the sale for importation, or the sale within the United States after importation of certain semiconductor devices and products containing the same by reason of infringement of claims 1-4, 6, 9, and 17 of U.S. Patent No. 9,899,481; claims 1, 2, 8-10, and 13-15 of U.S. Patent No. 8,686,562; claims 1-4, 8, and 9 of U.S. Patent No. 9,070,755; and claims 1, 2, and 10 of U.S. Patent No. 8,264,003. Id. at 70667. The complaint further alleges that a domestic industry exists. Id. The Commission's notice of investigation named as respondents Innoscience (Suzhou) Technology Company, Ltd., of Lili Town, China; Innoscience (Suzhou) Semiconductor Co., Ltd., of Lili Town, China; Innoscience (Zhuhai) Technology Company, Ltd., of Guangdong, China; and Innoscience America, Inc., of Santa Clara, California. Id. The Office of Unfair Import Investigations is not participating in the investigation. Id.

On October 1, 2024, Complainants filed an unopposed motion to amend the complaint and notice of investigation to correct the corporate title of Respondent Innoscience (Suzhou) Technology Co., Ltd. to Innoscience (Suzhou) Technology Holding Co., Ltd. No response to the motion was filed.

On October 10, 2024, the ALJ issued the subject ID (Order No. 7) granting the unopposed motion. Order No. 7 (Oct. 10, 2024). The subject ID finds the unopposed motion is supported by good cause as required by Commission Rule 210.14(b) (19 CFR 210.14(b)), that there is no prejudice to any party if the motion is granted, and reflects the true identity of the respondent at issue. No petitions for review of the ID were filed.

The Commission has determined not to review the subject ID. The complaint and notice of investigation are amended so that the name of Respondent Innoscience (Suzhou) Technology Co., Ltd. reads Innoscience (Suzhou) Technology Holding Co., Ltd.

The Commission vote for this determination took place on November 4, 2024.

The authority for the Commission's determination is contained in section 337 of the Tariff Act of 1930, as amended (19 U.S.C. 1337), and in part 210 of the Commission's Rules of Practice and Procedure (19 CFR part 210).

By order of the Commission.
Issued: November 5, 2024.
Lisa Barton,
Secretary to the Commission.

[FR Doc. 2024-25995 Filed 11-7-24; 8:45 am]

BILLING CODE 7020-02-P